NATIONAL AERONAUTICS AND SPACE ADMINISTRATION

[Notice (17-052)]

Notice of Intent To Grant Partially Exclusive Term License

AGENCY: National Aeronautics and Space Administration.

ACTION: Notice of intent to grant partially exclusive patent license.

SUMMARY: NASA hereby gives notice of its intent to grant a partially exclusive patent license in the United States to practice the invention described and claimed in U.S. Patent 8,813,577 entitled “Self-Contained Compressed-Flow Generation Device for use in making Differential Measurements,” U.S. Patent 8,555,731 entitled “Self-Contained Compressed-Flow Generation Device for use in making Differential Measurements,” U.S. Patent 8,739,638 entitled “Star-Shaped fluid flow tool for use in making differential measurements,” and U.S. Patent 8,733,180 entitled “Airfoil-shaped Fluid Flow Tool for use in making Differential Measurements,” to AquaStar Pool Products, Inc., having its principal place of business in Ventura, California. The fields of use may be limited to pool products and supplies. NASA has not yet made a determination to grant the requested license and may deny the requested license even if no objections are submitted within the comment period.

DATES: The prospective partially exclusive license may be granted unless NASA receives written objections, including evidence and argument, no later than August 14, 2017 that establish that the grant of the license would not be consistent with the requirements regarding the licensing of federally owned inventions as set forth in the Bayh-Dole Act and implementing regulations. Competing applications completed and received by NASA no later than August 14, 2017 will also be treated as objections to the grant of the contemplated exclusive license. Objections submitted in response to this notice will not be made available to the public for inspection and, to the extent permitted by law, will not be released under the Freedom of Information Act.

ADDRESSES: Objections relating to the prospective license may be submitted to Mr. James J. Mcgroary, Chief Patent Counsel/LS01, Marshall Space Flight Center, Huntsville, Alabama 35812, (256) 544-0013.

FOR FURTHER INFORMATION CONTACT: Mr. Sammy A. Nabors, Technology Transfer Branch (ST22), Marshall Space Flight Center, Huntsville, Alabama 35812, (256) 544-5226.

SUPPLEMENTARY INFORMATION: This notice of intent to grant an exclusive patent license is issued in accordance with 35 U.S.C. 209(c)(1) and 37 CFR 404.7(a)(1)(i). The patent rights in these inventions have been assigned to the United States of America as represented by the Administrator of the National Aeronautics and Space Administration. The prospective partially exclusive license will comply with the requirements of 35 U.S.C. 209 and 37 CFR 404.7.

Information about other NASA inventions available for licensing can be found online at http://technology.nasa.gov.

Mark P. Dvorscak,
Agency Counsel for Intellectual Property.

[FR Doc. 2017-15291 Filed 7-27-17; 8:45 am]

BILLING CODE 7510-13-P